DEPARTMENT OF TRANSPORTATION

Federal Motor Carrier Safety Administration

[Docket No. FMCSA-2006-24843]

Notice of Request for Clearance of a New Information Collection: Commercial Driver's License Program Improvements and Commercial Driver's License Information System Modernization

AGENCY: Federal Motor Carrier Safety Administration (FMCSA), DOT.

ACTION: Notice; request for comments.

SUMMARY: This action informs the public that FMCSA intends to request that the Office of Management and Budget (OMB) approve a new information collection required by the Commercial Driver's License Program Improvements (CDLPI) and the Commercial Driver's License Information System Modernization grant programs. That information consists of grant application preparation and quarterly reports. The CDLPI grant program also requires States' to conduct a self-assessment of their Commercial Driver's License (CDL) programs. This notice is required by the Paperwork Reduction Act of 1995.

DATES: Comments must be received by April 2, 2007.

ADDRESSES: Mail or hand deliver comments to the U.S. Department of Transportation, Dockets Management Facility, Room PL-401, 400 Seventh Street, SW., Washington, DC 20590, or submit electronically at http://dms.dot.gov/submit. Be sure to include the docket number appearing in the heading of this document on your comment. All comments received will be available for examination and copying at the above address from 9 a.m. to 5 p.m., e.t., Monday through Friday, except Federal holidays. If you would like to be notified when your comment is received, you must include a self-addressed, stamped postcard or you may print the acknowledgment page that appears after submitting your comments electronically.

FOR FURTHER INFORMATION CONTACT: Mr. Lloyd Goldsmith, Federal Motor Carrier Safety Administration, Office of Safety Programs, Commercial Driver's License Division (MC-ESL), 202-366-2964, 400 Seventh Street, SW., Washington, DC, 20590. Office hours are from 7:30 a.m. to 4 p.m., e.t., Monday through Friday, except Federal holidays.

SUPPLEMENTARY INFORMATION: Title: Commercial Driver's License Program Improvements and Commercial Driver's License Information System Modernization.

OMB Control Number: 2126-xxxx.

Type of Request: New information collection.

Background: The CDL program was created by the Commercial Motor Vehicle Safety Act of 1986 (CMVSA) [Public Law 99-570, 100 Stat. 3207-175, October 27, 1986] and its amending legislation. The goal of the CDL program is to improve highway safety by ensuring that drivers of large trucks and buses are qualified to operate those vehicles and to remove unsafe and unqualified drivers from the highways. CMVSA retained the States' right to issue a driver's license but established minimum national standards which States must meet when licensing commercial motor vehicle (CMV) drivers.

In CMVSA, Congress found that one of the leading impacts to CMV safety was the possession of multiple licenses by commercial drivers. Multiple licenses allowed drivers to spread their traffic violations over a number of licenses and to maintain a “good driver” rating regardless of the number of violations they may have acquired in one or more States. In response to the States' concerns, CMVSA directed DOT to establish Federal minimum standards to correct the multiple license issue, testing and licensing to check a person's ability to operate the types of vehicle he/she plans to operate, and to ensure that a person with a bad driving record is prohibited from operating a CMV.

These standards were designed to:

• Prohibit commercial drivers from possessing more than one CDL,

• Require that commercial drivers pass meaningful written and driving tests,

• Include special qualifications for hazardous materials drivers, and

• Establish disqualifications and penalties for drivers convicted of the traffic violations specified in 49 CFR 383.51.

States that failed to comply with the requirements imposed by DOT would be subject to withholding of a percentage of their Federal-aid highway funds. To enable the States to fully implement the provisions of CMVSA, Congress authorized DOT to enter into an agreement for the operation of a national non-Federal information system to serve as a clearinghouse and depository of information pertaining to the licensing and identification of operators of CMVs and the disqualification of such operators from operating CMVs. CDLIS is operated by the American Association of Motor Vehicles Administrators, an organization that represents the States' driver licensing and motor vehicle agencies.

State driver licensing databases (including that of the District of Columbia) and the CDLIS Central Site (Central Site) hold the data to support the CDL program. The Central Site only serves as a pointer to the current State of Record—the State where the driver's data is kept, including convictions, crashes, and withdrawals from all previous States. The Central Site is only updated when there is a name, date of birth, social security number, State, or driver license number change. All other data changes happen within and between States. The Central Site information ensures that the driver has only one CDL and that all current and history information on that driver resides in the database of the current State of Record.

The Agency has been providing grant funds to States to support CDL program activities since the inception of the program through the Motor Carrier Safety Assistance Program (MCSAP). The burden for the information collection associated with this program is currently captured under information collection number 2126-0010.

Section 4124 of the Safe, Accountable, Flexible, Efficient Transportation Equity Act: A Legacy for Users (SAFETEA-LU) [Public Law 109-59, 119 Stat. 1736, August 10, 2005] established the CDLPI grants to implement the requirements of the CDL program resulting from CMVSA. Section 4123 of SAFETEA-LU (119 Stat. 1734) established the CDLIS Modernization grants to develop a comprehensive national plan to modernize the existing CDL information system. SAFETEA-LU specifies specific data collection for the CDLPI grant program that is unique to that grant. This new information collection request will provide for the collection of the SAFETEA-LU mandated information for the CDLPI program and the information for the new CDLIS Modernization grant program.

CMVSA authorized DOT, working in partnership with the States, to assist the States in implementation of the CDL program by expending $60 million in order to meet the goals established by Congress. These funds were to be used to:

• Develop the knowledge and skills tests,

• Create a CDLIS telecommunications network connecting all State Departments of Motor Vehicles (State DMVs),

• Create national computer software to support each State in sharing information between the State DMVs,

• Implement the testing and licensing procedures of each State, and

• Implement in each State an information system that would support the program.

Congress continued to provide funding in subsequent years to improve the program or to implement new program initiatives and systems enhancements mandated by subsequent legislation.

This notice proposes that, in order to qualify for a grant, a State must submit an application with budget information and a self-assessment of its CDL program. In addition, this notice proposes that after the grant is awarded, a State must submit quarterly reports explaining its work activities and its accomplishments. FMCSA will monitor and evaluate a State's progress under its approved grant project. If a State fails to operate within the guidelines of the approved grant or does not remedy any identified deficiencies or incompatibilities in a timely manner, FMCSA may terminate the grant project. This proposed information collection would provide FMCSA with the information that serves as the basis for these responsibilities and decisions.

It is proposed that a State may submit its grant application electronically using grants.gov (http://www.grants.gov/Apply?campaignid=tabnavtracking 081105). A State may submit its quarterly reports using e-mail.

Proposed Form MCSA-5842, Grant Application Continuation Sheet (CDL-3), would be submitted with the CDLPI and CDLIS Modernization grant proposals. It supplements the information on SF-424, Application for Federal Assistance, with the information necessary to evaluate the grant proposal for conformity with congressionally-mandated eligibility criteria in SAFETEA-LU. This new form includes the congressionally-mandated Maintenance of Expenditures and is based on Part Two: Writing The Grant Proposal from Developing and Writing Grant Proposals on The Catalog of Federal Domestic Assistance (CFDA) Web site [http://www.cfda.gov] modified to provide the information necessary to monitor project execution.

Proposed Form MCSA-5843, Budget Detail Worksheet (CDL-4), is submitted with the CDLPI and CDLIS Modernization grant proposals. This budget worksheet collects detailed budget information not provided on SF-424A, Budget Information for Non-Construction Programs. As a result, the SF-424A will not be required. This new form was based on the expired (OJP Form 7150/1) (fillable) Budget Detail Worksheet.

Proposed Form MCSA-5844, Self-Assessment of State CDL Program (CDL-5), is submitted with the CDLPI grant proposals. This structured self-assessment instrument will allow FMCSA to link grant proposals to improvement needs identified by the State and for cross comparisons among States. SAFETEA-LU requires States to submit an assessment of their CDL programs as part of the application for CDLPI grants.

These forms are intended to be completed on grants.gov during the application process. The header information on each form would automatically be completed with information from the SF-424.

CDLPI Grants

Respondents: State CDL lead agencies (the 50 States and the District of Columbia).

Number of Respondents (for the CDLPI grants): 51 (per year and per quarter).

Frequency (for the CDLPI grants): Annual application with quarterly reports.

Estimated Time Per Response (for the CDLPI grants): 56 hours (30 hours to prepare the annual grant application, 10 hours to complete the self assessment of the State CDL Program, and 4 hours to prepare each quarterly report (4 × 4 = 16 hours)).

Estimated Total Annual Burden (for the CDLPI grants): 2,856 hours (51 respondents × 56 hours per response).

CDLIS Modernization Grants

Number of Respondents (for the CDLIS Modernization grants): 51 (per year and per quarter).

Frequency (for the CDLIS Modernization grants): Annual application with quarterly reports.

Estimated Time Per Response (for the CDLIS Modernization grants): 46 hours (30 hours to prepare the annual grant application and 4 hours to prepare each quarterly report (4 × 4 = 16 hours)).

Estimated Total Annual Burden (for the CDLIS Modernization grants): 2,346 hours (51 respondents × 46 hours per response).

Combined Total Annual Burden: 5,202 hours (2,856 hours CDLPI Estimated Total Annual Burden + 2,346 hours CDLIS Modernization Estimated Total Annual Burden).

Public Comments Invited

Your comments are invited on whether the collection of information is necessary for FMCSA to meet its goal of reducing truck crashes, including:

• Whether the information is useful to this goal;

• The accuracy of the estimated burden of the information collection;

• Ways to enhance the quality, utility, and clarity of the information collected; and

• Ways to minimize the burden of the collection of information on respondents, including the use of automated collection techniques or other forms of information technology.

Electronic Access and Filing

You may submit or retrieve comments online through the Docket Management System (DMS) at http://dms.dot.gov/submit. Acceptable formats include MS Word (versions 95 to 97), MS Word for Mac (versions 6 to 8), Rich Text File (RTF), American Standard Code Information Interchange (ASCII)(TXT), Portable Document Format (PDF), and WordPerfect (versions 7 or 8). DMS is available 24 hours each day, 365 days each year. Electronic submission and retrieval help and guidelines are available under the Help section of the Web site. You may also download an electronic copy of this document from the DOT DMS on the Internet at http://dms.dot.gov/search. Please include the docket number appearing in the heading of this document.

Issued on: January 23, 2007.
John H. Hill,
Administrator.

[FR Doc. E7-1440 Filed 1-29-07; 8:45 am]

BILLING CODE 4910-EX-P